DEPARTMENT OF THE INTERIOR

Fish and Wildlife Service

[FWS-R1-ES-2016-N086; FXES11120100000-167-FF01E00000]

Final Environmental Impact Statement and Final Habitat Conservation Plan for the Na Pua Makani Wind Energy Project, Oahu, HI

AGENCY: Fish and Wildlife Service, Interior.

ACTION: Notice of availability.

SUMMARY: We, the U.S. Fish and Wildlife Service (Service), announce the availability of the final environmental impact statement (EIS) and final habitat conservation plan (HCP) for Na Pua Makani Power Partners, LLC's (applicant) Na Pua Makani Wind Energy Project (Project). The applicant is requesting an incidental take permit (ITP) to authorize take of one threatened and six endangered species (covered species) listed under the Endangered Species Act of 1973, as amended (ESA). If issued, the ITP would authorize incidental take of the covered species that may occur as a result of the construction and operation of the Project over a 21-year period. The HCP describes the applicant's actions and measures to minimize, mitigate, and monitor incidental take of the covered species. The final EIS has been prepared in response to the permit application in accordance with requirements of the National Environmental Policy Act (NEPA).

DATES: The Service's decision on issuance of an ITP will occur no sooner than 30 days after the publication of the U.S. Environmental Protection Agency's notice of the final EIS in the Federal Register and will be documented in a Record of Decision (ROD).

ADDRESSES: You may obtain copies of the final EIS and final HCP by one of the following methods.

• Internet: Documents may be viewed and downloaded on the Internet at http://www.fws.gov/pacificislands/.

• U.S. Mail: You may obtain a compact disk with electronic copies of these documents by writing to Mary Abrams, Field Supervisor; U.S. Fish and Wildlife Service; Pacific Islands Fish and Wildlife Office; 300 Ala Moana Boulevard, Room 3-122; Honolulu, HI 96850.

• Telephone: Call 808-792-9400 during regular business hours.

FOR FURTHER INFORMATION CONTACT: Ms. Jodi Charrier (Renewable Energy Coordinator) or Mr. Aaron Nadig (Oahu, Kauai, American Samoa Geographic Deputy Field Supervisor), U.S. Fish and Wildlife Service (see ADDRESSES above); by telephone 808-792-9400; or by email at NaPuaMakanihcp@fws.gov. If you use a telecommunications device for the deaf, please call the Federal Information Relay Service (FIRS) at 800-877-8339.

SUPPLEMENTARY INFORMATION: We are advising the public of the availability of the final EIS and final HCP associated with an ITP application. The applicant is requesting an ITP for a 21-year permit term to authorize take of the threatened Newell's shearwater (Puffinus newelli), and the endangered Hawaiian stilt (Himantopus mexicanus knudseni), Hawaiian coot (Fulica americana alai), Hawaiian moorhen, (Gallinula chloropus sandvicensis), Hawaiian duck (Anas wyvilliana), Hawaiian goose (Branta sandvicensis), and the Hawaiian hoary bat (Lasiurus cinereus semotus) that may occur as a result of the construction and operation of the Project. The final HCP describes the applicant's actions and the measures the applicant will implement to minimize, mitigate, and monitor incidental take of the covered species. Additionally, the Project would be partially located on State of Hawaii lands, triggering environmental review under the Hawaii Environmental Policy Act (HEPA) (Chapter 343 of the Hawaii Revised Statutes (HRS)).

Background

The applicant proposes to construct and operate the wind energy generation Project on approximately 707 acres of public and private lands near the town of Kahuku on the island of Oahu, Hawaii. The western portion of the Project would be located on about 255 acres of State of Hawaii lands managed by the Hawaii Department of Land and Natural Resources. The eastern portion of the Project would be located on about 452 acres of land owned by the Malaekahana Hui West, LLC. Additional parcels would be used to access the Project, for which the applicant would utilize temporary entry permits, licenses or easements.

The proposed Project would have a generating capacity of up to approximately 25 megawatts (MW) and would supply wind-generated electricity to the Hawaii Electric Company. The Project would consist of 8 to 10 wind turbine generators (WTGs), 1 permanent un-guyed lattice-frame meteorological tower, up to 4.9 miles of new and existing access roads, an operations and maintenance facility, electrical collection and interconnection infrastructure, an electrical substation, and a temporary laydown area. The applicant is considering a variety of WTG models, each ranging from 427 feet to 656 feet in height, and having up to 3.3 MW of generating capacity. The applicant will select the most appropriate WTGs prior to construction. The selection of the WTG models would not change the impacts to the covered species analyzed in the EIS.

The proposed Project area is surrounded by agricultural farm lands to the north; residential housing, community infrastructure, and agricultural farm lands to the east; a mixture of agricultural farm lands and undeveloped forest lands to the south; and undeveloped forest lands to the west. The James Campbell National Wildlife Refuge is approximately 0.75 mile to the north, and the Malaekahana State Recreation Area is 0.1 mile to the east. The operational 30-MW Kahuku wind project abuts the proposed Project area to the northwest.

Acoustic monitoring has confirmed the presence of the Hawaiian hoary bat in the vicinity of the Project site. Hawaiian hoary bats have collided with wind turbines at the 30-MW Kahuku and 69-MW Kawailoa wind projects on Oahu, and at the 30-MW Kaheawa I, 21-MW Kaheawa II, and 21-MW Auwahi wind projects on Maui. The Hawaiian goose occurs in the vicinity of the proposed Project and may collide with wind turbines as documented at Kaheawa I and II. Although there have been no known occurrences of Newell's shearwaters, Hawaiian stilts, Hawaiian coots, Hawaiian moorhens, or Hawaiian ducks colliding with wind turbines within the State of Hawaii, these covered species may transit the Project area.

The applicant has developed a final HCP that addresses the incidental take of the seven covered species that may occur as a result of the construction and operation of the Project over a period of 21 years. The final HCP details proposed measures the applicant will implement to minimize, mitigate, and monitor incidental take of the covered species. The applicant has also applied for a State of Hawaii incidental take license under Hawaii State law.

To offset anticipated take, the applicant is proposing mitigation measures on Oahu that include: (1) Funding research to support effective management of Newell's shearwaters; (2) fencing and predator control to conserve the Hawaiian goose at James Campbell National Wildlife Refuge; (3) a combination of bat research and native forest restoration and management to increase Hawaiian hoary bat habitat; (4) acoustic surveys to document occupancy of the affected area by the Hawaiian hoary bat; and (5) fencing and public outreach at Hamakua Marsh to benefit conservation of the Hawaiian stilt, Hawaiian coot, Hawaiian moorhen and the Hawaiian duck. This final HCP incorporates adaptive management provisions to allow for modifications to the mitigation and monitoring measures as knowledge is gained during implementation of the HCP.

The proposed action in the FEIS is to approve the final HCP and to issue an ITP with a term of 21 years to the applicant for incidental take of the covered species caused by covered activities associated with the construction and operation of the Project, if permit issuance criteria are met.

National Environmental Policy Act Compliance

The development of the final HCP and the proposed issuance of an ITP under this plan is a Federal action that triggers the need for compliance with NEPA (42 U.S.C. 4321 et seq.). We have prepared a final EIS to analyze the environmental impacts of a range of alternatives related to the issuance of the ITP and implementation of the conservation program under the proposed final HCP. The alternatives include a no-action (alternative 1), proposed action (alternative 2), and a modified proposed action option (alternative 2a), and a larger wind energy generation project alternative (alternative 3).

Under the no-action alternative, the proposed Project would not be constructed, the proposed final HCP would not be implemented, and no ITP would be issued. The proposed action alternative is construction and operation of the Project consisting of between 8 and 10 wind turbines, implementation of the final HCP, and issuance of the ITP. In response to public comments on the draft EIS related to visual impacts and consideration of fewer turbines with larger generating capacities, a modified proposed action option with a reduced maximum number of turbines consisting of only 9 turbines with larger generating capacities and taller dimensions was added to the final EIS. The modified proposed action option also includes implementation of the final HCP, and issuance of the ITP. The larger wind energy generation project alternative would include the construction and operation of a larger generation facility of up to 42 MW. This alternative would consist of up to 12 WTGs, each with a generating capacity of up to 3.3 MW, implementation of an HCP, and issuance of the ITP.

In accordance with NEPA (40 CFR 1502.14(e)), the Service has identified the proposed action (alternative 2) including the modified proposed action option (alternative 2a) as the preferred alternative. Under NEPA, the “agency's preferred alternative” is a preliminary indication of the Federal responsible official's preference of action, which is chosen from among the alternatives analyzed in an EIS. It is the alternative which the agency believes would fulfill its statutory mission and responsibilities, giving consideration to economic, environmental, technical and other factors (43 CFR 46.420(d)). The preferred alternative is not a final agency decision; rather, it is an indication of the agency's preference. The final agency decision is presented in the Record of Decision.

Public Involvement

In May 2013, the applicant began holding community meetings, small focus group meetings with stakeholders, and individual meetings with community leaders and legislators to discuss the proposed Project and engage the public in the Project's planning and design.

The Service published a notice of intent (NOI) to prepare a draft EIS in the Federal Register on November 5, 2013, (78 FR 66377). The NOI also announced a public scoping period (November 5 to December 5, 2013), during which we invited interested parties to provide written comments related to the proposal. A public scoping meeting was held in Kahuku, Hawaii on November 13, 2013, in accordance with NEPA (40 CFR 1501.7). Utilizing public scoping comments, we prepared a draft EIS to analyze the effects of the alternatives on the human environment. The Service published a notice of availability (NOA) of the draft EIS in the Federal Register on June 12, 2015 (80 FR 33535) opening a 60-day public comment period. The Service also posted the Federal Register NOA, Notice of Public Scoping Meeting, draft HCP, draft EIS, and a news release on their Web site at http://www.fws.gov/pacificislands/. A public open-house meeting was held on June 23, 2015, in Kahuku, Hawaii to solicit additional input from the public on the draft EIS and draft HCP. A total of 90 comment letters and emails were received from the public. The official comment period ended on August 11, 2015.

The State of Hawaii's environmental impact statement preparation notice (EISPN) was distributed to interested parties for review between December 23, 2013, and January 23, 2014, and again between November 8 and December 8, 2014 (republished to reflect the addition of a second access into the Project site). During the initial public scoping period for the EISPN, three public scoping meetings were held at Kahuku Community Center: on November 13, 2013, January 10, 2014, and November 19, 2014. In addition to the public meetings, a media advisory was sent out prior to each meeting. The State of Hawaii's Department of Land and Natural Resources hosted a public hearing at the Kahuku Community Center on June 4, 2015. The draft EIS was published in the State of Hawaii Office of Environmental Quality Control's The Environmental Notice on June 8, 2015, in accordance with requirements set forth under the Hawaii Environmental Policy Act (HRS § 343-3). Public comments were accepted during the 45-day State public comment period.

Next Steps

We will evaluate the permit application, associated documents, and public comments in reaching a final decision on whether the application meets the requirements of section 10(a) of the ESA (16 U.S.C. 1531 et seq.). We will evaluate whether the proposed permit action would comply with section 7 of the ESA by conducting an intra-Service section 7 consultation. We will use the results of this consultation, in combination with the above findings, in our final analysis to determine whether or not to issue an ITP. If the requirements are met, we will issue the ITP to the applicant. We will issue a record of decision and issue or deny the ITP no sooner than 30 days after publication of the U.S. Environmental Protection Agency's notice of availability of the final EIS.

Authority

We provide this notice in accordance with the requirements of section 10(c) of the ESA and its implementing regulations (50 CFR 17.22 and 17.32) and NEPA and its implementing regulations (40 CFR 1506.6).

Theresa Rabot,
Deputy Regional Director, Pacific Region, U.S. Fish and Wildlife Service, Portland, Oregon.

[FR Doc. 2016-16082 Filed 7-11-16; 8:45 am]

BILLING CODE 4333-15-P